DEPARTMENT OF LABOR

Employment and Training Administration

[TA-W-80,463]

Clow Water Systems Company Including On-Site Leased Workers From Carol Harris Stafffing Including Workers Whose Unemployment Insurance (UI) Wages Are Reported Through McWane, Inc., Coshocton, OH; Amended Certification Regarding Eligibility To Apply for Worker Adjustment Assistance

In accordance with Section 223 of the Trade Act of 1974, as amended (“Act”), (19 U.S.C. 2273), the Department of Labor issued a Certification of Eligibility to Apply for Worker Adjustment Assistance on December 14, 2011, applicable to workers of Clow Water Systems Company, including on-site leased workers from Carol Harris Staffing, Coshocton, Ohio. The workers are engaged in activities related to the production of iron pipe and utility fittings. The notice was published in the Federal Register on December 29, 2011(76 FR 81988).

At the request of the State agency, the Department reviewed the certification for workers of the subject firm. New information shows that McWane, Inc. is the parent firm of Clow Water Systems Company. Some workers separated from employment at the Coshocton, Ohio location of Clow Water Systems Company had their wages reported through a separate unemployment insurance (UI) tax account under the name McWane, Inc.

Accordingly, the Department is amending this certification to include workers of the subject firm whose unemployment insurance (UI) wages are reported through McWane, Inc. The intent of the Department's certification is to include all workers of the subject firm who were adversely affected by increased imports of iron pipe and utility fittings.

The amended notice applicable to TA-W-80,463 is hereby issued as follows:

All workers of Clow Water Systems Company, including on-site leased workers from Carol Harris Staffing, including workers whose unemployment insurance (UI) wages are reported through McWane, Inc., Coshocton, Ohio, who became totally or partially separated from employment on or after September 23, 2010, through December 14, 2013, are eligible to apply for adjustment assistance under Section 223 of the Trade Act of 1974, and are also eligible to apply for alternative trade adjustment assistance under Section 246 of the Trade Act of 1974.

Signed at Washington, DC, this 3rd day of February 2012.
Michael W. Jaffe
Certifying Officer, Office of Trade Adjustment Assistance.

[FR Doc. 2012-3925 Filed 2-17-12; 8:45 am]

BILLING CODE 4510-FN-P